DEPARTMENT OF THE INTERIOR

National Park Service

Cape Cod National Seashore, Massachusetts; Draft Environmental Impact Statement for the Hunting Program

AGENCY: National Park Service, Interior.

ACTION: Notice of Availability of the Draft Environmental Impact Statement for the Hunting Program at Cape Cod National Seashore.

SUMMARY: The National Park Service (NPS) announces the availability of the Draft Environmental Impact Statement for the Hunting Program at Cape Cod National Seashore (DEIS). The draft document describes and analyzes the environmental impacts of a preferred alternative, another action alternative, and a no action alternative.

DATES: The DEIS will be available for public review and comment for 60 days from the date of publication of the Environmental Protection Agency's Notice of Availability in the Federal Register. Comments will be accepted until the close of the 60-day review period. Public information meetings are scheduled for 7 p.m., Thursday, June 8, 2006, at the Salt Pond Visitor Center in Eastham, Massachusetts, and for 9 a.m., Saturday, June 10, 2006, at the Province Lands Visitor Center in Provincetown, Massachusetts.

ADDRESSES: The DEIS may be viewed online at http://www.nps.gov/caco through the “In Depth” link on the homepage under “Management”. The DEIS will be available in hard copy at outer cape libraries and Marconi headquarters for onsite review. Comments may be submitted by mail to the address below, or by e-mail to CACO_Hunt_EIS@nps.gov (please note the underscore between words).

FOR FURTHER INFORMATION CONTACT: Superintendent, Cape Cod National Seashore, 99 Marconi Site Road, Wellfleet, Massachusetts 02667. Telephone: (508) 349-3785. Fax: (508) 349-9052.

SUPPLEMENTARY INFORMATION: Pursuant to section 102(2)(C) of the National Environmental Policy Act of 1969, 42 U.S.C. 4332(2), the NPS has prepared a DEIS that considers three alternatives for managing the hunting program at Cape Cod National Seashore. The draft document describes and analyzes the environmental impacts of a preferred alternative, another action alternative, and a no action alternative.

Comments may be submitted by mail to: Cape Cod National Seashore, 99 Marconi Site Road, Wellfleet, Massachusetts 02667; or by e-mail to CACO_Hunt_EIA@nps.gov (please note the underscore between words). It is our practice to make comments, including the names and home addresses of respondents, available for public review during normal business hours. Individual respondents may request that we withhold their home addresses from the record, which we will honor to the extent allowable by law. There also may be circumstances in which we would withhold the respondent's identity. If you wish us to withhold your address you must state this prominently at the beginning of your comment. We will make all submissions from organizations or businesses identifying themselves as representatives or officials of organizations or businesses, available for public inspection in their entirety.

Alternative A (No Action): The National Park Service would continue the hunting program as it was prior to a court decision to enjoin the pheasant hunting and stocking program. Hunting would continue in accordance with the seasons and regulations established by the Massachusetts Division of Fisheries and Wildlife (MDFW), and in accordance with the existing rules established by Cape Cod National Seashore pertaining to the time of year hunting is allowed, the species that can be hunted, and no-hunting zones. Under this alternative, the pheasant hunting and stocking program would be re-established.

Alternative B (Preferred Alternative): The hunting program described in Alternative A would be modified as described below. These modifications were derived from the input received during public scoping, and would retain hunting as part of Cape Cod's cultural heritage while addressing concerns raised by non-hunting visitors.

Element 1: An adaptive management approach would be used to phase out the pheasant stocking and hunting program over a 15-year period. The number of pheasants stocked each year would be determined in coordination with MDFW, and would be based on hunting pressure and the response of native quail populations to cultural landscape restoration activities. If at the end of 15 years, native upland game bird hunting opportunities have not increased to a level roughly commensurate to the stocked pheasant hunt, the park will work with MDFW to create opportunities for a stocked quail hunt.

Element 2: This element would simplify the scope of hunting areas, and would designate hunting-permitted areas versus the current policy which allows hunting in all areas except where specifically prohibited. The hunting-permitted areas would be delineated based on the existing 500-foot no-hunting buffers around paved roads and buildings, expanding the no-hunting buffers around bicycle paths from 150 feet to 500 feet, and eliminating the small patches and thin slivers of area that cannot practicably be hunted.

Element 3: This element would increase traditional hunting opportunities for native upland bird species. Specifically, the park's rules would be revised to allow the State's spring eastern turkey hunt to occur within the park. Additionally, this element would include developing and implementing cultural landscape restoration activities that are expected to improve habitat quality for upland game birds, particularly northern bobwhite quail.

Element 4: Improved information regarding hunting-permitted areas, hunting regulations, and safety measures would be developed. Outreach strategies would be developed to improve hunter and visitor understanding of the hunting program.

Alternative C: This alternative would consider eliminating hunting at Cape Cod National Seashore. A sub-element of Alternative C would eliminate only the pheasant program while retaining the other aspects of the hunting program.

George E. Price, Jr.,
Superintendent, Cape Cod National Seashore.

[FR Doc. 06-4354 Filed 5-9-06; 8:45 am]

BILLING CODE 4310-WV-M